DEPARTMENT OF COMMERCE

International Trade Administration

Notice of Health and Safety Guidelines for Official ITA Trade Missions

AGENCY: International Trade Administration, Department of Commerce.

ACTION: Notice.

SUMMARY: The United States Department of Commerce, International Trade Administration, intends to resume in-person trade missions, where possible, beginning March 2022. These trade missions will be organized and carried out with basic health and safety precautions in place for attendees in response to COVID-19.

Background

The International Trade Administration (ITA) intends to resume in-person trade missions, where possible, beginning March 2022. Since the beginning of the global pandemic, ITA has been closely monitoring COVID-19 developments and continues to plan in-person trade missions for future dates. As those mission dates approach, ITA will decide on each mission on a case-by-case basis to allow mission teams to evaluate the health and safety circumstances of the event and determine whether to move forward as-is, postpone, convert to virtual or hybrid, or cancel the mission. In the event that the mission is able to move forward in-person, the health and safety of all attendees remains ITA's top priority, and with any resumption of in-person events, ITA is announcing basic health and safety precautions that will highlight existing guidelines applicable to all trade mission attendees.

In addition to the guidelines set forth herein, ITA is closely monitoring government mandates and policy changes, CDC guidelines, and public health announcements. As information pertaining to COVID-19 continues to develop, we will adjust our approach as needed.

In-person trade missions will be organized and carried out with precautions in place for the health and safety of all attendees in response to COVID-19, and with due regard to and, as appropriate, in alignment with then-current:

Guidance from the Centers for Disease Control and Prevention (CDC) https://www.cdc.gov/coronavirus/2019-ncov/your-health/index.html

Guidance issued by the Safer Federal Workforce Task Force https://www.saferfederalworkforce.gov/

For Commerce employees, the workplace safety plan found at https://www.commerce.gov/covid-19-information-hub

Recommendations from the World Health Organization (WHO) https://www.who.int/emergencies/diseases/novel-coronavirus-2019/advice-for-public

At a minimum, ITA will continue to follow CDC Guidelines, as updated, including mask requirements and travel rules.

Requirements for Mission Participants

Before departure and/or upon arrival, including at each mission stop, ITA will brief trade mission participants (i.e., private sector participants) on its current COVID-19 policies, as well as the relevant policies of local authorities.

Mission participants are responsible for compliance with all COVID-19-related requirements pertaining to travel to, within, and from trade mission destination(s), including vaccinations, and, when appropriate, testing, masking, and physical distancing. All mission participants will be expected to comply with regulations and guidelines in effect at the time of the event in the country, market, and facilities where mission events are being held. Note that federal regulations and guidelines may be applicable for events held in federally owned or federally leased facilities outside the United States.

Mission participants must present a photo ID and proof that they meet the then-current CDC definition of being fully vaccinated at the time of entry to a mission event. Individuals who are not able to be fully vaccinated due to certain medical conditions, age, or closely held religious beliefs, or who elect not to provide this information, will be expected to follow all relevant protocols for individuals who are not fully vaccinated and must provide proof of a negative COVID-19 test at the time of entry to a mission event, administered by an authorized health or medical provider, taken within the past three days prior to entry.¹

¹ ITA may require attestation of negative test at other times throughout the course of a trade mission, as appropriate.

Physical distancing practices will be implemented according to all venue and local requirements. Where possible, there will be hand sanitizer stations.

To create a safe environment for all attendees, participants who test positive for COVID-19 in transit to or during a trade mission are responsible for following the relevant regulations and guidelines, including any quarantine protocols, and are expected to cease participation in in-person events until a negative test is received or quarantine protocols are fulfilled. If a participant who has tested positive is deemed by ITA to pose a health risk to other participants, ITA may terminate their participation without refund.

Any unused financial contributions made to the Department of Commerce for a trade mission that is cancelled will be refunded promptly. Financial contributions that have already been expended in anticipation of the mission and cannot be recouped by the Department of Commerce may not be refunded to the participants when a trade mission is cancelled. Given the unique circumstances presented by COVID-19, the same considerations apply in the event a participant must withdraw from a trade mission after testing positive for COVID-19. No personal expenses paid by the participants in anticipation of the trade mission will be reimbursed. Participants are responsible for all costs related to COVID-19 if contracted during or in transit to or from a trade mission.

Note on Federal Employees and Contractors

On-site federal employees and contractors will be expected to comply with current local regulations and guidelines in the country, market, or facilities, publicly- or privately-owned or operated, where mission events are being held.

All on-site federal employees and contractors will be expected to comply with applicable federal and departmental rules, requirements, and guidance relating to COVID-19 safety as issued by the Safer Federal Workforce Task Force (https://www.saferfederalworkforce.gov/) and in effect at the time of the event, including any quarantining or other protocols in the event that they test positive for COVID-19. ITA and other Department of Commerce employees will additionally be expected to adhere to the Department of Commerce Workplace Safety Plan as appropriate, including indoor mask requirements in areas of high or substantial COVID-19 transmission (https://www.commerce.gov/covid-19-information-hub).

Federal employees and contractors participating in on-site events will be required to complete and maintain on their persons at all times a Certification of Vaccination. (Certification available at: https://www.saferfederalworkforce.gov/downloads/CertificationVaccinationPRAv7.pdf.) Federal employees and contractors who are not fully vaccinated or decline to provide information about their vaccination status must follow all relevant protocols for individuals who are not fully vaccinated and must provide proof of a negative COVID-19 test administered by an authorized health or medical provider taken within the past three days.

Gemal Brangman,
Director, ITA Events Management Task Force.

[FR Doc. 2022-02936 Filed 2-10-22; 8:45 am]

BILLING CODE 3510-DR-P